ENVIRONMENTAL PROTECTION AGENCY

[EPA-HQ-OAR-2009-0253; FRL-8934-5]

Agency Information Collection Activities: Proposed Collection; Comment Request; Emission Guidelines for Large Municipal Waste Combustors Constructed on or Before September 20, 1994; EPA ICR No. 1847.05, OMB Control No. 2060-0390

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). The ICR is scheduled to expire on November 30, 2009. Before submitting the ICR to OMB for review and approval, EPA is soliciting comments on specific aspects of the proposed information collection as described below.

DATES: Comments must be submitted on or before September 22, 2009.

ADDRESSES: Submit your comments, identified by Docket ID No. EPA-HQ-OAR-2009-0253 by one of the following methods:

• http://www.regulations.gov: Follow the online instructions for submitting comments.

• E-mail: a-and-r-Docket@epa.gov.

• Fax: (202) 566-9744.

• Mail: ICR Renewal (2009)—Emission Guidelines for Large Municipal Waste Combustors Constructed on or before September 20, 1994 (40 CFR part 60, subpart Cb), Environmental Protection Agency, Mailcode: 2822, 1200 Pennsylvania Ave., NW., Washington, DC 20460.

• Hand Delivery: EPA Docket Center, Public Reading Room, EPA West Building, Room 3334, 1301 Constitution Ave., NW., Washington, DC 20004. Such deliveries are only accepted during the Docket's normal hours of operation, and special arrangements should be made for deliveries of boxed information.

Instructions: Direct your comments to Docket ID No. EPA-HQ-OAR-2009-0253. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Walt Stevenson, Sector Policies and Programs Division, Office of Air Quality Planning and Standards, Mail Code D243-01, Environmental Protection Agency, 109 T.W. Alexander Drive, Research Triangle Park, NC 27711; telephone number: 919-541-5264; fax number: 919-541-5450; e-mail address: stevenson.walt@epa.gov.

SUPPLEMENTARY INFORMATION:

How can I Access the Docket and/or Submit Comments?

EPA has established a public docket for the ICR under Docket ID No. EPA-HQ-OAR-2009-0253, which is available for online viewing at http://www.regulations.gov, or in person viewing at the Docket in the EPA Docket Center (EPA/DC), EPA West Building, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

1. Evaluate whether the collection of information is necessary for the proper performance of the functions of the Agency, including whether the information will have practical utility.

2. Evaluate the accuracy of the Agency's estimate of the burden of the collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from small businesses on examples of specific additional efforts that EPA could make to reduce the paperwork burden for any small businesses that are affected by this collection.

What Should I Consider When I Prepare my Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are large municipal waste combustors (large MWCs). The SIC codes (and associated North American Industry Classification System (NAICS) codes) for possible respondents affected by the standards are listed in the table below.

Standard | SIC codes | NAICS codes
40 CFR part 60, subpart Cb | 9511, Air and Water Resource and Solid Waste Management | 92411, Air and Water Resource and Solid Waste Management.
40 CFR part 62, subpart FFF | 4953, Refuse Systems | 562213, Solid Waste Combustors and Incinerators.

Title: Emission Guidelines for Large Municipal Waste Combustors Constructed on or before September 20, 1994 (40 CFR part 60, subpart Cb).

ICR numbers: EPA ICR No. 1847.05, OMB Control No. 2060-0390.

ICR status: Currently, the ICR is scheduled to expire on November 30, 2009. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The data collection ICR is a renewal of current data collection and reporting requirement for large MWCs subject to 40 CFR part 60, subpart Cb emission guidelines. The subpart Cb guidelines are maximum achievable control technology (MACT) based standards that were adopted in 1995 and were fully implemented by year 2000. The data collected by the ICR are intended to monitor the compliance status of large MWCs subject to these MACT standards. The data collection is a mandatory requirement (Clean Air Act section 114(a)(1)).

Burden Statement: The annual reporting and recordkeeping burden for this collection of information includes: (1) The burden for large MWCs subject to the Federal plan implementing subpart Cb guidelines; (2) the burden for large MWCs subject to approved State plans implementing subpart Cb guidelines; and (3) the burden for State air pollution control offices (designated administrators) to enforce State plans implementing subpart Cb guidelines. The hourly burden estimate for large MWCs subject to the Federal plan level is estimated to average 2,584 hours per year per MWC unit (or 5,514 hours per year per MWC plant), and the burden estimate for large MWCs subject to approved State plans is estimated to average 2,403 hours per unit (or 6,291 hours per year per MWC plant). For designated administrators, the burden is estimated to average 21 hours per year per MWC unit (or 55 hours per plant).

For MWC owners and operators, burden means the total time, effort, or financial resources expended by persons to generate, maintain, retain, or disclose or provide information to the designated administrator (or EPA). This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

For delegated administrators (State air pollution control offices), burden means the total time, effort, or financial resources expended to review information provided by MWC owners and operators to comply with the emission guidelines through State plan. This includes the time needed to review semiannual and annual compliance reports; develop and utilize technology and systems for the purposes of collecting, validating, and verifying information, processing and maintaining information, and providing information; train personnel to review the collection of information; and transmit or otherwise disclose the information.

The ICR provides a detailed explanation of the Agency's estimate, which is only briefly summarized as follows:

Estimated total number of potential respondents: The number of respondents for large MWCs subject to the Federal plan is estimated to be nine MWC owners and operators; and the number of respondents for large MWCs subject to approved State plans is estimated to be 55 MWC owners and operators. For designated administrators, the total number of respondents is estimated to be 18 designated administrators. Therefore, the total number of respondents is 82, which comprises 31 privately owned MWC plants, 32 publicly owned MWC plants, and 18 designated administrators.

Frequency of response: Annual, semiannual.

Estimated total average number of responses for each respondent: The overall average number of responses is 229, as follows. For privately owned MWC plants, the total number of annual responses is 78; for publicly owned MWC plants, the total number of annual responses is 74; and for designated administrators, the total number of annual responses is 77.

Estimated total annual burden hours: The estimated total annual burden hours is 394,954, as follows. For privately owned large MWC plants, the total annual burden hours are 190,954. For publicly owned large MWC plants, the total annual burden hours are 200,964. For designated administrators, the total annual burden hours are 3,036.

Estimated total annual costs: The estimated total annual costs are $50,588,150, as follows. This includes an estimated base burden cost of $49,032,950 and additional capital investment/maintenance/operational costs of $1,555,200.

Are There Changes in the Estimates From the Last Approval?

Yes. First, for large MWCs subject to the Federal plan the current ICR the burden estimate (2006 to 2009) is 38,417 hours per year. For the ICR renewal (2009 to 2012) the burden estimate for large MWCs subject to the Federal plan increases to 46,513 hours per year. This increase reflects EPA's updating of burden based on more current inventory and performance data from large MWCs.

Additionally, the ICR includes the burden estimates for large MWCs subject to approved State plans and for designated administrators implementing approved State plans. These burden estimates were not included in the previous ICR. The combined annual labor burden for large MWCs subject to the Federal plan, large MWCs subject to State plans, and burden for designated agencies implementing these regulations is 395,330 hours per year and $49,032,950 per year for labor costs. The combined annual non-labor costs for MWCs subject to the Federal plan and State plans are $1,555,200.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the person listed under FOR FURTHER INFORMATION CONTACT.

Dated: July 16, 2009.
Penny E. Lassiter,
Acting Director, Sector Policies and Programs Division.

[FR Doc. E9-17718 Filed 7-23-09; 8:45 am]

BILLING CODE 6560-50-P